DEPARTMENT OF COMMERCE

National Oceanic and Atmospheric Administration

[I.D. 031005A]

Magnuson-Stevens Act Provisions; Fisheries of the Northeastern United States; Northeast Multispecies Fishery; 2005 Georges Bank Cod Hook Sector Operations Plan and Agreement and Allocation of Georges Bank Cod Total Allowable Catch

AGENCY: National Marine Fisheries Service (NMFS), National Oceanic and Atmospheric Administration (NOAA), Commerce.

ACTION: Notice of approval of hook sector operations plan and allocation of Georges Bank cod total allowable catch.

SUMMARY: NMFS announces approval of an Operations Plan and Sector Contract titled “Amendment 1 to Georges Bank (GB) Cod Hook Sector Operations Plan and Agreement” (Sector Agreement), and the associated allocation of GB cod, consistent with regulations implementing Amendment 13 to the Northeast (NE) Multispecies Fishery Management Plan (FMP). The intent is to allow regulated harvest of groundfish by the GB cod Hook Sector (Sector), consistent with the objectives of the FMP.

ADDRESSES: Copies of the Sector Operations Plan and the environmental assessment (EA) are available upon request from the NE Regional Office at the following mailing address: George H. Darcy, Assistant Regional Administrator for Sustainable Fisheries, NMFS, Northeast Regional Office, 1 Blackburn Drive, Gloucester, MA 01930. These documents may also be requested by calling (978) 281-9315.

FOR FURTHER INFORMATION CONTACT: Thomas Warren, Fishery Policy Analyst, phone (978) 281-9347, fax (978) 281-9135, e-mail Thomas.Warren@NOAA.gov.

SUPPLEMENTARY INFORMATION: The final rule implementing Amendment 13 (69 FR 22906, April 27, 2004) specified a process for the formation of sectors within the NE multispecies fishery and the allocation of total allowable catch (TAC) for a specific groundfish species (or Days-at-Sea (DAS)), implemented restrictions that apply to all sectors, authorized the Sector, established the GB Cod Hook Sector Area (Sector Area), and specified a formula for the allocation of GB cod TAC to the Sector. The Sector was authorized for fishing year (FY) 2004 and, based upon the hook gear landings history of its 58 members, was allocated 371 mt of cod, which represented 12.587 percent of the total 2004 GB cod TAC.

NMFS provided interested parties an opportunity to comment on the Sector Agreement proposed for the 2005 fishing year through notification published in the Federal Register on April 1, 2005 (70 FR 16804); additional background and details of the Sector Agreement are contained in that notification and are not repeated here. No comments from the public were received.

After consideration of the proposed Sector Agreement, which contains the Sector Contract and Operations Plan, NMFS has concluded that the Sector Agreement is consistent with the goals of the FMP and other applicable law and is in compliance with the regulations governing the development and operation of a sector as specified under 50 CFR 648.87.

There are 49 members of the approved Sector. The calculation of GB cod TAC for the Sector was based upon historic GB landings under the following two regulatory scenarios: (1) The current regulations, as implemented by Amendment 13, that restrict GB cod landings to only hook gear; and (2) based upon the proposed Framework Adjustment 40-B (currently under review by the NMFS) that, if approved, would not restrict GB cod landings to certain gear types. The allocation percentages were calculated by dividing the sum of GB cod landings by Sector members for the FYs 1996 through 2001 by the sum of the accumulated landings of GB cod harvested by all NE multispecies vessels for same time period (113,278,842 lb or 51,383 mt) for each of the two regulatory scenarios described above. The resulting numbers are 10.79 percent and 11.12 percent for the two methods, respectively. Based upon the 49 Sector members, the Sector TAC of GB cod for FY 2005 is 441 mt, and would be 455 mt, upon approval of FW 40-B.

Letters of Authorization will be issued to members of the Sector exempting them, conditional upon their compliance with the Sector Agreement, from the requirements of the Gulf of Maine trip limit exemption program, limits on the number of hooks, and the GB Seasonal Closure Area, as specified in §§ 648.86(b), 648.80(a)(4)(v), and 648.81(g), respectively.

Classification

This action is required by 50 CFR part 648 and is exempt from review under Executive Order 12866.

Authority: 16 U.S.C. 1801 et seq.

Dated: April 29, 2005.
Anne M. Lange
Acting Director, Office of Sustainable Fisheries, National Marine Fisheries Service.

[FR Doc. 05-8857 Filed 4-29-05; 2:59 pm]

BILLING CODE 3510-22-S